DEPARTMENT OF COMMERCE

International Trade Administration

Yale School of Medicine; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave. NW., Washington, DC.

Docket Number: 15-061. Applicant: Yale School of Medicine, New Haven, CT 06510. Instrument: SuperK Extreme EXR-20 white light laser. Manufacturer: NKT Photonics, Denmark. Intended Use: See notice at 81 FR 71702, October 18, 2016. Comments: None received. Decision: Approved. We know of no instruments of equivalent scientific value to the foreign instruments described below, for such purposes as this is intended to be used, that was being manufactured in the United States at the time of order. Reasons: The instrument will be used as an excitation source for the study of intracellular processes and structures at super resolution. The experiments require a high power pulsed excitation source at a wavelength of 590 nm, and minimal after pulse tail and sub 100 ps pulse width.

Docket Number: 17-009. Applicant: UChicago Argonne, Lemont, IL 60439-4873. Instrument: Electron Beams Position Processors. Manufacturer: Instrumentation Technologies, Slovenia. Intended Use: See notice at 82 FR 34924, July 27, 2017. Comments: None received. Decision: Approved. We know of no instruments of equivalent scientific value to the foreign instruments described below, for such purposes as this is intended to be used, that was being manufactured in the United States at the time of order. Reasons: The instrument will be used to measure the precise position of the Advanced Photon Source (APS) storage ring electron beam with resolution of 50 to 100 nanometers from DC to 1000 kHz. It can also turn by turn position to the 1 micrometer level for fast 271 kHz (the turn by turn rate) beam position measurement, without which the required vertical beam stability of 400 = nm will not be met. The instrument also has a daisy chain capability to accumulate and send all data from several bpm processors to the fast-orbit-feedback processor, without which data cannot be sent at 32 bpms to the local fast-orbit feedback processors at the same time.

Docket Number: 17-010. Applicant: New Mexico Institute of Mining and Technology, Socorro, NM 87801. Instrument: Delay Line Trolley #2 (DLT2). Manufacturer: University of Cambridge/Cavendish Lab, United Kingdom. Intended Use: See notice at 82 FR 34924, July 27, 201. Comments: None received. Decision: Approved. We know of no instruments of equivalent scientific value to the foreign instruments described below, for such purposes as this is intended to be used, that was being manufactured in the United States at the time of order. Reasons: The instrument will be flexure-mounted and voice-coil actuated on a motorized wheeled carriage inside each delay line pipe of the Magdalena Ridge Observatory Interferometer. The instrument's unique specifications include a wavelength of operation that covers both the visible and near infrared, between 600 nm and 2400 nm, and a limiting group-delay tracking limiting magnitude of H = 14 to allow observations of extragalactic targets while tracking on the science object rather than a nearby reference star.

Docket Number: 17-011. Applicant: William Marsh Rice University, Houston, TX 77005. Instrument: 3D Laser Lithography System. Manufacturer: Nanoscribe GmbH, Germany. Intended Use: See notice at 82 FR 34924, July 27, 2017. Comments: None received. Decision: Approved. We know of no instruments of equivalent scientific value to the foreign instruments described below, for such purposes as this is intended to be used, that was being manufactured in the United States at the time of order. Reasons: The instrument will be used to prepare materials for investigations of the mechanical, optical, electronic, and thermal properties of substrates for cell culture growth to better understand cancer propagation and tumors, mechanical trusses with nanoscale structure to create and study light, strong composite materials and metal structures to understand and control optical properties of materials in new ways. The distinctive feature of the instrument is its computer control integrated with both sample-stage motion in three dimensions with nano-resolution, and longer-distance scanning mirror technology to cover large (hundreds of microns) distances quickly.

Docket Number: 17-012. Applicant: Lawrence Berkeley National Laboratory, Berkeley, CA 94720. Instrument: Custom undulator magnetic system mfg'd. to LBNL spec., for an accelerator research facility: (1) 1st article & (21) production units. Manufacturer: Vacuumschemelze GmbH & Co., KG, Germany. Intended Use: See notice at 82 FR 34924-25, July 27, 2017. Comments: None received. Decision: Approved. We know of no instruments of equivalent scientific value to the foreign instruments described below, for such purposes as this is intended to be used, that was being manufactured in the United States at the time of order. Reasons: The instrument will be used as a core component of a free-electron-laser which produces x-rays for scientific discovery. To reach sufficiently high magnetic field values (1.3 Tesla) the instrument requires magnets with maximum field energy and poles with the highest saturation fields.

Docket Number: 17-013. Applicant: William Marsh Rice University, Houston, TX 77005. Instrument: Professional Lab-Device electrospraying/electrospinning Unit V2.0. Manufacturer: Yflow Nanotechnology Solutions, Spain. Intended Use: See notice at 82 FR 34924-25, July 25, 2017. Comments: None received. Decision: Approved. We know of no instruments of equivalent scientific value to the foreign instruments described below, for such purposes as this is intended to be used, that was being manufactured in the United States at the time of order. Reasons: The instrument will be used to prepare samples and materials for experiments. The electrospinning and electrospraying capabilities of this instrument will allow studies of the mechanical, biodegradation, optical, architectural, drug elution, biocompatibility, and cell metabolism among other such properties as materials for basic science and engineering research. The instrument is unique in its capabilities to control climate, jet diameter, micro-droplet production, fibered core-shell capsule production, core-shell capsules, and co/multi-axial designs.

Dated: November 20, 2017.
Gregory W. Campbell,
Director, Subsidies Enforcement, Enforcement and Compliance.

[FR Doc. 2017-26066 Filed 12-1-17; 8:45 am]

BILLING CODE 3510-DS-P